DEPARTMENT OF TRANSPORTATION

Federal Aviation Administration

14 CFR Part 71

[Airspace Docket No. 02-ASO-5]

Amendment of Class D Airspace; Marietta Dobbins ARB (NAS Atlanta), GA

AGENCY: Federal Aviation Administration (FAA), DOT.

ACTION: Final rule.

SUMMARY: This action amends Class D airspace at Marietta Dobbins ARB (NAS Atlanta), GA. It has been determined that the Marietta Dobbins ARB Class D airspace area be amended to provide containment of instrument approach procedures within controlled airspace. Adequate controlled airspace should be established for the Airport Surveillance Radar (ASR) Standard Instrument Approach Procedures (SIAPs) to Runways (RWYs) 11 and 29. This action would amend the lateral limits of the existing Class D airspace by adding Class D airspace extensions from the 5.5-mile radius to 6.9 miles to the east and west of Marietta Dobbins ARB.

EFFECTIVE DATE: 0901 UTC, October 3, 2002.

FOR FURTHER INFORMATION CONTACT: Walter R. Cochran, Manager, Airspace Branch, Air Traffic Division, Federal Aviation Administration, P.O. Box 20636, Atlanta, Georgia 30320; telephone (404) 305-5586.

SUPPLEMENTARY INFORMATION:

History

On April 29, 2002, the FAA proposed to amend Part 71 of the Federal Aviation Regulations (14 CFR part 71) by amending Class D airspace at Marietta Dobbins ARB (NAS Atlanta), GA, (67 FR 20919). Class D airspace designations for airspace areas extending upward from the surface of the earth are published in Paragraph 5000 of FAA Order 7400.9J, dated August 31, 2001, and effective September 16, 2001, which is incorporated by reference in 14 CFR 71.1. The Class D airspace designations listed in this document will be published subsequently in the Order.

Interested parties were invited to participate in this rulemaking proceeding by submitting written comments on the proposal to the FAA. No comments objecting to the proposal were received.

The Rule

This amendment to part 71 of the Federal Aviation Regulations (14 CFR part 71) amends Class D airspace at Marietta Dobbins ARB (NAS Atlanta), GA.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a regulatory evaluation, as the anticipated impact is so minimal. Since this is a routine matter that will only affect air traffic procedures and air navigation, it is certified that this rule will not have a significant economic impact on a substantial number of small entities under the criteria of the Regulatory Flexibility Act.

List of Subjects in CFR Part 71

Airspace, Incorporation by reference, navigation (air).

Adoption of the Amendment

PART 71—DESIGNATION OF CLASS A, CLASS B, CLASS C, CLASS D AND CLASS E AIRSPACE AREAS; AIRWAYS; ROUTES; AND REPORTING POINTS

1. The authority citation for 14 CFR Part 71 continues to read as follows:

Authority: 49 U.S.C. 106(g); 40103, 40113, 40120; EO 10854, 24 FR 9565, 3 CFR, 1959-1963 Comp., p. 389; 14 CFR 11.69.

§ 71.1 [Amended]

2. The incorporation by reference in 14 CFR 71.1 of Federal Aviation Administration Order 7400.9J, Airspace Designations and Reporting Points, dated August 31, 2001, and effective September 16, 2001, is amended as follows:

Paragraph 5000 Class D Airspace.

* * * * *

ASO GA D Marietta Dobbins ARB (NAS Atlanta), GA [Revised]

Dobbins ARB (NAS Atlanta), GA

(Lat. 33°54″55′ N, long. 84°30″59′ W)

Cobb County—McCollum Field

(Lat. 34°00″47′ N, long. 84°35″55′ W)

Fulton County—Brown Field

(Lat 33°46″45′ N, long. 84°31″17′ W)

That airspace extending upward from the surface to and including 3,600 feet MSL within a 5.5-mile radius of Dobbins ARB (NAS Atlanta) and within 1.7 miles each side of the 289° bearing and the 109° bearing from the Dobbins ARB, extending from the 5.5-mile radius to 6.9 miles east and west of the airport; excluding that airspace northwest of a line connecting the 2 points of intersection with a 4-mile radius centered on Cobb County—McCollum Field and the 5.5-mile radius of Dobbins ARB, and also excluding that airspace south of a line connecting the 2 points of intersection with the 4-mile radius centered on Fulton County Airport—Brown Field. This Class D airspace area is effective during the specific dates and times established in advance by a Notice to Airmen. The effective date and time will thereafter be continuously published in the Airport/Facility Directory.

* * * * *

Issued in College Park, Georgia, on June 12, 2002.
Walter R. Cochran,
Acting Manager, Air Traffic Division, Southern Region.

[FR Doc. 02-15799 Filed 6-21-02; 8:45 am]

BILLING CODE 4910-13-M